DEPARTMENT OF AGRICULTURE

Agricultural Marketing Service

7 CFR 52

[Document Number AMS-FV-15-0049, FV-16-332]

United States Standards for Grades of Canned Vegetables

AGENCY: Agricultural Marketing Service, USDA.

ACTION: Notice.

SUMMARY: The Agricultural Marketing Service (AMS) of the Department of Agriculture (USDA) proposes to revise 18 U.S. grade standards for canned vegetables issued on or before August 3, 1998. AMS is proposing to replace the two-term grading system (dual nomenclature) with a single term to describe each quality level for the grade standards identified in this notice. Terms using the letter grade would be retained and the descriptive term would be eliminated. For example, grade standards using the term “U.S. Grade A” or “U.S. Fancy” would be revised to use the term “U.S. Grade A.” Likewise, grade standards using the term “U.S. Grade B” or “U.S. Extra Standard” would be revised to use the single term “U.S. Grade B.” These changes would bring the grade standards in line with the present quality levels being marketed today and provide guidance in the effective use of these products. Editorial changes would also be made to the grade standards that conform to recent changes made in other grade standards.

DATES: Comments must be submitted on or before August 16, 2016.

ADDRESSES: Written comments may be submitted via the Internet at http://www.regulations.gov or by mail to Dana N. White, Standardization Branch, Specialty Crops Inspection Division, Specialty Crops Program, Agricultural Marketing Service, U.S. Department of Agriculture, 1400 Independence Avenue SW., Room 0709-South Building; STOP 0247, Washington, DC 20250; or fax (202) 690-1527. Copies of the proposed revised U.S. Standards for Grades are available at the Web site address cited above. All comments should reference the document number, date, and page number of this issue of the Federal Register. All comments will be posted without change, including any personal information provided. All comments submitted in response to this notice will be included in the public record and made available to the public on the Internet via http://www.regulations.gov and at the above address during regular business hours.

FOR FURTHER INFORMATION CONTACT: Contact Dana N. White, at the address above, by phone (202) 720-5870; fax (202) 690-1527; or email: Dana.White@ams.usda.gov. Copies of the current U.S. standards for grades for the 18 canned vegetables covered by this Notice are available on the Internet at http://www.ams.usda.gov/grades-standards/vegetables.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. standards for grades of fruits and vegetables not connected with Federal Marketing Orders or U.S. import requirements no longer appear in the Code of Federal Regulations, but are maintained by USDA, AMS, Specialty Crops Program and are available on the internet at: http://www.ams.usda.gov/grades-standards/vegetables. AMS is proposing revisions to these U.S. Standards for Grades using the procedures that appear in part 36 of Title 7 of the Code of Federal Regulations (7 CFR part 36).

Background: AMS periodically reviews the grade standards for usefulness in serving the industry. AMS has determined that changes to 18 grade standards covering various canned vegetables are required. More recently developed grade standards use a single term, such as “U.S. Grade A” or “U.S. Grade B,” to describe each level of quality within a grade standard. Older grade standards used dual nomenclature, such as “U.S. Grade A” and “U.S. Fancy,” “U.S. Grade B” and “U.S. Extra Standard,” and “U.S. Grade C” and “U.S. Standard,” to describe the same level of quality. The terms “U.S. Fancy,” “U.S. Extra Standard,” and “U.S. Standard” would be removed and the terms “U.S. Grade A,” U.S. Grade B,” and “U.S. Grade C” would be used exclusively. AMS is also proposing editorial changes to these grade standards, i.e., updating addresses to obtain copies of the grade standards, removing specific addresses for licensed suppliers of color standards and inspection aids, and updating Code of Federal Regulations references where applicable. Contact information for current licensed suppliers is available in the Fresh and Processed Equipment Catalog on the AMS Web site at: http://www.ams.usda.gov/grades-standards/how-purchase-equipment-and-visual-aids. These revisions will provide a format that is consistent with those of other grade standards (75 FR 43141). The following table summarizes the changes currently under consideration by AMS.

U.S. Standards for grades of canned | Effective date | Change level of quality designation to single term | Other revisions proposed
Asparagus | 06/20/73 | Yes | Update address for standards. Correct Standard of Identity citation.
Beets | 08/03/98 | Yes | Update address for standards.
Carrots | 08/03/98 | Yes | Update address for standards.
Chili Sauce | 10/20/53 | Yes | Update address for standards.
Corn, Cream Style | 07/01/57 | Yes | Update address for standards. Add Standard of Identity citation. Add Latin name.
Hominy | 03/10/58 | Yes | Update address for standards.
Leafy Greens | 09/01/73 | Yes | Update address for standards. Add titles to Tables IV and V. Correct Standard of Identity citation.
Okra | 07/08/57 | Yes | Update address for standards.
Okra and Tomatoes or Tomatoes and Okra | 12/24/57 | Yes | Update address for standards.
Onions | 11/02/57 | Yes | Update address for standards. Add titles for Tables II and III. Add Standard of Identity citation.
Peas and Carrots | 07/20/70 | Yes | Update address for standards.
Peas, Field and Black-eye Peas | 07/01/57 | Yes | Update address for standards. Replace “U.S. Grade D” with “Substandard.”
Pimientos | 10/23/67 | Yes | Update address for standards.
Pumpkin (Squash) | 07/01/57 | Yes | Update address for standards.
Sauerkraut | 05/13/63 | Yes | Update address for standards.
Spinach | 05/08/71 | Yes | Update address for standards. Correct Standard of Identity citation.
Squash (Summer Type) | 05/25/59 | Yes | Update address for standards.
Succotash | 05/24/67 | Yes | Update address for standards. Replace “U.S. Grade D” with “Substandard.” Put “proportion of ingredients” in outline form.

The proposed revisions to these grade standards would provide a common language for trade and better reflect the current marketing of fruits and vegetables.

A 60-day period is provided for interested persons to submit comments on the proposed grade standards. Copies of the proposed revised standards are available on the Internet at http://www.regulations.gov.

Authority: 7 U.S.C. 1621-1627.

Dated: June 13, 2016.
Dana Coale,
Associate Administrator, Agricultural Marketing Service.

[FR Doc. 2016-14332 Filed 6-16-16; 8:45 am]

BILLING CODE 3410-02-P